DEPARTMENT OF HOMELAND SECURITY

Coast Guard

33 CFR Part 165

[Docket Number USCG-2016-0799]

RIN 1625-AA87

Safety and Security Zones; New York Marine Inspection and Captain of the Port Zone

AGENCY: Coast Guard, DHS.

ACTION: Technical correction.

SUMMARY: The Coast Guard is publishing this notice to correct a misstatement and typographical error in a previous Advance Notice of Proposed Rulemaking (ANPRM). A sentence in the summary of that document erroneously stated that the Coast Guard was considering removing a security zone around Liberty State Park and Ellis Island, while the document itself merely discussed the possibility of modifying the zone, not removing it.

DATES: Comments and related material regarding the ANPRM must be received by the Coast Guard on or before January 3, 2017.

ADDRESSES: You may submit comments identified by docket number [USCG-2016-0799] using the Federal eRulemaking Portal at http://www.regulations.gov. See the “Public Participation and Request for Comments” portion of the ANPRM for further instructions on submitting comments.

FOR FURTHER INFORMATION CONTACT: If you have questions on this technical correction, call or email Ari Scott, Office of Regulations and Administrative Law, U.S. Coast Guard; telephone (202) 372-3860, email Ari.J.Scott@uscg.mil.

SUPPLEMENTARY INFORMATION:

On November 3, 2016, the Coast Guard published an ANPRM which discussed the possibility of modifying the security zone around Liberty State Park and Ellis Island (81 FR 76545). On page 76545, in the second column, correct the second sentence of the Summary to read: “The proposed modification of the security zone would increase navigational safety in New York Harbor by allowing vessels to transit under the Ellis Island Bridge, rather than being required to transit the Anchorage Channel.”

Dated: November 3, 2016.
Katia Kroutil,
Office Chief, Office of Regulations and Administrative Law, U.S. Coast Guard.

[FR Doc. 2016-27037 Filed 11-8-16; 8:45 am]

BILLING CODE 9110-04-P